DEPARTMENT OF AGRICULTURE

Submission for OMB Review; Comment Request

November 21, 2019.

The Department of Agriculture has submitted the following information collection requirement(s) to OMB for review and clearance under the Paperwork Reduction Act of 1995, Public Law 104-13. Comments are requested regarding whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 26, 2019 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food Safety and Inspection Service

Title: Electronic Import Inspection.

OMB Control Number: 0583-0159.

Summary of Collection: The Food Safety and Inspection Service (FSIS) has been delegated the authority to exercise the functions of the Secretary as provided in the Federal Meat Inspection Act (FMIA) (21 U.S.C. 601 et. seq.), the Poultry Products Inspection Act (PPIA) (21 U.S.C. 451, et. seq.), and the Egg Products Inspection Act (EPIA) (21 U.S.C. 1031). These statues mandate that FSIS protect the public by verifying that meat and poultry products are safe, wholesome, not adulterated, and properly labeled and packaged.

Need and Use of the Information: FSIS requires foreign governments to submit additional information when submitting both the foreign establishment certificate and the foreign inspection certificate to FSIS in order for foreign establishments to be permitted to import product to the United States. The information that is required with the Foreign Establishment Certificate includes: The type of operation(s) conducted at the establishment (e.g., slaughter, processing, storage, exporting warehouse); the establishment's eligibility status (e.g., new or relisted (if previously delisted)); and, slaughter and processing establishment certifications that address the species and type of product(s) produced at the establishment and the process category. Additional information that is required with the Foreign Inspection Certificate includes: The species used to produce the product and the source country and foreign establishment number; whether the source materials originate from a country other than the exporting country; the product's description, including the process category, the product category, and the product group; the address of the consignor; the address of the consignee; the name and address of the exporter; the name and address of the importer; and, any additional information the Administrator requests to determine whether the product is eligible to be imported into the U.S. FSIS also requires official import inspection establishments to develop, implement, and maintain written Sanitation Standard Operating Procedures (SSOPs), as provided in 9 CFR 416.11 through 416.17. The Import Inspection Application (FSIS Form 9540-1) is available to applicants that do not file this information electronically. When FSIS inspected and passed product is exported and then returned to this country, the owner, broker, or agent of the product arranges for the product's entry and notifies FSIS. As part of this process, the applicant completes the FSIS Form 9010-1, Application for the Return of Exported Products to the United States. To conduct the information collection less frequently would inhibit the ability of FSIS to ensure that imported products are safe, wholesome and not adulterated.

Description of Respondents: Business or other for-profit.

Number of Respondents: 939.

Frequency of Responses: Recordkeeping; Reporting: On occasion; Annually.

Total Burden Hours: 49,385.

Ruth Brown,
Departmental Information Collection Clearance Officer.

[FR Doc. 2019-25611 Filed 11-25-19; 8:45 am]

BILLING CODE 3410-DM-P